FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 29, 2013.

A. Federal Reserve Bank of San Francisco (Gerald C. Tsai, Director, Applications and Enforcement) 101 Market Street, San Francisco, California 94105-1579:

1. The Ricco Lagomarsino Testamentary Trust, Daly City, California, and a group consisting of Lisa Angelot, Enrico P. Togneri, Warren Hutchins, T. Anne Lassahn, (Trustees of the Trust), and Dolores Togneri, Lora Angelot, and Eric Angelot, all of Daly City, California, to retain in excess of 10 percent of FNB Bancorp and thereby indirectly control First National Bank of Northern California, both of South San Francisco, California.

Board of Governors of the Federal Reserve System, November 8, 2013.
Michael J. Lewandowski,
Associate Secretary of the Board.

[FR Doc. 2013-27245 Filed 11-13-13; 8:45 am]

BILLING CODE 6210-01-P